ENVIRONMENTAL PROTECTION AGENCY

40 CFR Part 52

[MD078-3078b; FRL 7049-4]

Approval and Promulgation of Air Quality Implementation Plans; Maryland; Control of VOC Emissions From Marine Vessel Coating Operations

AGENCY: Environmental Protection Agency (EPA).

ACTION: Proposed rule.

SUMMARY: EPA is proposing to approve a revision to the Maryland State Implementation Plan (SIP) revision. The revision establishes and imposes reasonably available control technology to reduce volatile organic compound (VOC) emissions from marine vessel coating operations. In the “Rules and Regulations” section of this Federal Register, EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by October 5, 2001.

ADDRESSES: Written comments should be addressed to Makeba Morris, Chief, Permits and Technical Assessment Branch, Mailcode 3AP11, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Maryland Department of the Environment, 2500 Broening Highway, Baltimore, Maryland, 21224.

FOR FURTHER INFORMATION CONTACT: Makeba Morris, (215) 814-2182, at the EPA Region III address above, or by e-mail at makeba.morris@epa.gov. Please note that while questions may be posed via telephone and e-mail, formal comments must be submitted, in writing, as indicated in the ADDRESSES section of this document.

SUPPLEMENTARY INFORMATION: For further information, please see the information provided in the direct final action that is located in the “Rules and Regulations” section of this Federal Register publication.

Dated: August 28, 2001.
Thomas C. Voltaggio,
Regional Administrator, Region III.

[FR Doc. 01-22268 Filed 9-4-01; 8:45 am]

BILLING CODE 6560-50-P